GENERAL SERVICES ADMINISTRATION

Notice of Availability (NOA) of the Final Environmental Impact Statement (FEIS) for the Future Master Plan Development for the Centers for Disease Control (CDC) in Chamblee, GA

Pursuant to the requirements of the National Environmental Policy Act (NEPA) of 1969, and the President's Council on Environmental Quality Regulations (40 CFR parts 1500-1508), as implemented by General Services Administration (GSA) Order PBS P 1095.4D, GSA announces its Notice of Availability (NOA) of the Final EIS for the proposed development and future build out for the CDC in Chamblee, Georgia. The proposed action includes the expansion of facilities and will include replacement buildings, additional buildings, parking structures, and infrastructure on Government-owned property located in Chamblee located south of Tucker Road between Peachtree Dekalb Airport and Buford Highway. The EIS has examined the impacts of this proposed development on the natural and human environment and included impacts to wetlands, floodplains, traffic, and other potential impacts identified by the community through the scoping process.

The EIS has addressed the potential impacts of two alternatives considered: the Proposed Action (Development Alternative), and No-Action Alternative (met facility requirements without full development on site). GSA solicited community input throughout this process, and incorporated comments into the decision process. Additional information is available from GSA at the following address: Mr. Phil Youngberg, Environmental Manager (4PT), General Services Administration (GSA), 77 Forsyth Street, Suite 450, Atlanta, GA 30303.

Dated: June 22, 2002.
Phil Youngberg,
Environmental Manager (4PT).

[FR Doc. 02-16979 Filed 7-5-02; 8:45 am]

BILLING CODE 6820-23-M